DEPARTMENT OF TRANSPORTATION

Federal Aviation Administration

[Docket No. FAA-2013-0259-2245]

Agency Information Collection Activities: Requests for Comments; Clearance of a Renewed Approval of Information Collection: FAA Aircraft Noise Complaint and Inquiry System (Noise Portal)

AGENCY: Federal Aviation Administration (FAA), DOT.

ACTION: Notice and request for comments.

SUMMARY: In accordance with the Paperwork Reduction Act of 1995, FAA invites public comments about our intention to request the Office of Management and Budget (OMB) approval to renew an information collection. The FAA Regional Administrators' Offices and the FAA Noise Ombudsman will use the information voluntarily reported, on the occasion of a complaint, by the public in the FAA Noise Portal to prepare responses to their noise complaints or inquiries. The required FAA Noise Portal fields represent the minimum amount of information the FAA needs to address the public's noise complaint or question and includes: name, email, address or cross street and a description of the noise complaint or inquiry. It is important to know the person's name and email address to respond and track the complaint. The FAA will not respond to the same complaint from the same person more than once. The address or cross street is needed for the FAA to determine potential sources of the aircraft noise issues as most people complain about aircraft in the vicinity of their residence. The description is used to provide additional details for the FAA to better address the complaint or question.

DATES: Written comments should be submitted by April 9, 2021.

ADDRESSES: Please send written comments:

By Electronic Docket: www.regulations.gov (Enter docket number into search field).

By mail: Idurre L. Isasa-Cowan, Federal Aviation Administration, AEE, 800 Independence Avenue SW, Suite 900W, Washington, DC 20591.

FOR FURTHER INFORMATION CONTACT: Idurre L. Isasa-Cowan, Email: 9-APL-NCI-FRN-Comments@faa.gov, Phone: 202-267-0965.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0773.

Title: FAA Aircraft Noise Complaint and Inquiry System (Noise Portal).

Form Numbers: None.

Type of Review: Renewal of an information collection.

Background: Although the FAA already receives aircraft noise complaints and inquiries from the public, the FAA's voluntary collection of the information from the public invokes the PRA process. The FAA must receive approval from the Office of Management and Budget (OMB) to collect the information in the Noise Portal. The FAA will summarize the public comments from the 60-day comment period (March 1, 2021 to April 30, 2021), and address these in a 30-day Federal Register notice inviting further comments. OMB has 60-days from the date of the 30-day notice to approve the FAA's voluntary collection of information in the Noise Portal. We expect the entire process will be completed by July 2021.

Respondents: The public.

Frequency: As needed.

Estimated Average Burden per Response: 15 minutes.

Estimated Total Annual Burden: 11,250 hours.

Issued in Washington, DC, on February 3, 2021.
Idurre L. Isasa-Cowan,
Noise Complaint Initiative (NCI), Team Lead, Federal Aviation Administration.

[FR Doc. 2021-02560 Filed 2-5-21; 8:45 am]

BILLING CODE 4910-13-P